DEPARTMENT OF ENERGY

Federal Energy Regulatory Commission

[Docket No. PR01-3-000]

Magnolia Pipeline Corporation; Notice of Petition for Rate Approval

December 13, 2000.

Take notice that on November 13, 2000, Magnolia Pipeline Corporation (Magnolia), filed a petition for rate approval, pursuant to Section 311 of the Natural Gas Policy Act (NGPA), and Section 284.123(b)(2) of the Commission's Regulations requesting that the Commission approve Magnolia's continued use of its current maximum rate of $0.1621 per Dth, plus reimbursement of actual fuel use up to three percent, for Section 311 interruptible transportation services performed on Magnolia's system.

Magnolia is an intrastate pipeline within the meaning of Section 2(16) of the NGPA, and owns and operates facilities within the State of Alabama. Magnolia states that even if it were able to collect its current maximum rate, it would not recover its total cost of service because its throughput is significantly lower than expected. Further, since market conditions do not allow it to collect its current maximum rate, Magnolia is seeking only to re-justify such rate. Magnolia proposes an effective date of November 21, 2000, while reserving the right to increase its Section 311 rate at a future date.

Pursuant to section 284.123(b)(2)(ii), if the Commission does not act within 150 days of the filing date of Magnolia's Petition, Magnolia's rates for firm and interruptible storage services will be deemed to be fair and equitable. The Commission may within such 150 day period extend the time for action or institute a proceeding in which all interested parties will be afforded an opportunity for written comments and the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before December 28, 2000. This petition for rate approval is on file with the Commission and is available for public inspection. This filing may be viewed on the web at http://www.ferc.fed.us/online/rims.htm (call 202-208-2222 for assistance). Comments and protests may be filed electronically via the internet in lieu of paper. See, 18 CFR 385.200(a)(1)(iii) and the instruction on the Commission's web site at http://www.ferc.fed.us/efi/doorbell.htm.

David P. Boergers.
Secretary.

[FR Doc. 00-32268 Filed 12-18-00; 8:45 am]

BILLING CODE 6717-01-M